DEPARTMENT OF COMMERCE

National Oceanic and Atmospheric Administration

[RTID 0648-XB386]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Committee via webinar to consider actions affecting New England fisheries in the exclusive economic zone (EEZ). Recommendations from this group will be brought to the full Council for formal consideration and action, if appropriate.

DATES: This webinar will be held on Thursday, September 23, 2021, at 9:30 a.m. Webinar registration URL information: https://attendee.gotowebinar.com/register/2575598707704315150.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Committee will review the recommendations from the Recreational Advisory Panel and Groundfish Advisory Panel. They will also discuss development of draft Framework Adjustment 63/Specifications and Management Measures, specifically, (1) Set 2022 total allowable catches for U.S./Canada management units of Eastern Georges Bank (GB) cod and Eastern GB haddock, and 2022-23 specifications for the GB yellowtail flounder stock, (2) Set 2022-24 specifications for GB cod and Gulf of Maine (GOM) cod, and possibly adjust 2022 specifications for GB haddock and GOM haddock, (3) Adjust 2022 specifications for white hake based on the rebuilding plan, (4) Adopt additional measures to promote stock rebuilding, and (5) Develop alternatives to the current default system. The Committee also plans to receive an overview of the Atlantic Cod Stock Structure Management Workshops. They will continue the preliminary discussion of possible 2022 Council priorities for groundfish and make recommendations as appropriate to the Council. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

(Authority: 16 U.S.C. 1801 et seq.)

Dated: August 31, 2021.
Tracey L. Thompson,
Acting Deputy Director, Office of Sustainable Fisheries, National Marine Fisheries Service.

[FR Doc. 2021-19147 Filed 9-3-21; 8:45 am]

BILLING CODE 3510-22-P